ENVIRONMENTAL PROTECTION AGENCY

[FRL-10002-08-OW]

Meeting of the National Drinking Water Advisory Council

AGENCY: Environmental Protection Agency (EPA).

ACTION: Notice of a public meeting.

SUMMARY: The U.S. Environmental Protection Agency (EPA) is announcing a meeting of the National Drinking Water Advisory Council (NDWAC or Council) as authorized under the Safe Drinking Water Act. The purpose of the meeting is to allow the EPA to present an overview of the Agency's Safe Drinking Water Act programs for the fiscal year 2020 and to consult with the NDWAC on a National Primary Drinking Water Regulation for perchlorate and on revisions to the Lead and Copper Rule.

DATES: The meeting will be held on December 4, 2019, from 8:30 a.m. to 5:00 p.m., eastern time; and on December 5, 2019, from 8:30 a.m. to 12:30 p.m., eastern time.

ADDRESSES: The U.S. Environmental Protection Agency, 1201 Constitution Avenue NW, WJC South, Room 6226, ARS NETI Training Room, Washington, DC 20004.

SUPPLEMENTARY INFORMATION:

Details about Attending the Meeting: The meeting is open to the general public. If you wish to attend the meeting, you may register by sending an email to Elizabeth Corr, the NDWAC Designated Federal Officer (DFO), at: corr.elizabeth@epa.gov. The email subject line should read: “NDWAC 2019 Attendee.” Your email should include your name, address, and telephone number.

Members of the public attending the meeting must present an unexpired, government-issued photo identification (ID) that comports with requirements of the REAL ID Act, be screened through security equipment, sign in, and be verified/met in the lobby by an EPA employee. Please Note: Driver's licenses from some states may not be compliant with the REAL ID Act and, therefore, will not be accepted; alternative ID documents will be necessary in those cases. Foreign national visitors are strongly encouraged to provide advance notice of attendance, must present a valid passport for entry, and must meet all pre-clearance requirements. All members of the public attending the meeting are reminded to allow time for the security screening and sign-in process when entering the building.

The EPA will allocate one hour for the public to present comments at the meeting on December 4, 2019. Oral statements will be limited to five minutes per person during the public comment period. It is preferred that only one person present a statement on behalf of a group or organization. Individuals or organizations interested in presenting an oral statement should notify Elizabeth Corr, the NDWAC DFO, by email at: corr.elizabeth@epa.gov, no later than November 22, 2019. Any person who wishes to file a written statement can do so before or after the Council meeting. Send written statements to: Elizabeth Corr, NDWAC DFO, Office of Ground Water and Drinking Water (Mail Code 4601), U.S. Environmental Protection Agency, 1200 Pennsylvania Avenue NW, Washington, DC 20460; or email at: corr.elizabeth@epa.gov.

Written statements intended for the meeting must be received before November 22, 2019, to be distributed to all members of the Council for their consideration. Statements received on or after the date specified will become part of the permanent file for the meeting and will be forwarded to the Council members after conclusion of the meeting.

Special Accommodations: For information on access or services for individuals with disabilities, please contact Elizabeth Corr at: (202) 564-3798 or by email at: corr.elizabeth@epa.gov. To request an accommodation for a disability, please contact Elizabeth Corr at least 15 days prior to the meeting date to allow the EPA as much time as possible to attend to your request.

National Drinking Water Advisory Council: The NDWAC was created by Congress on December 16, 1974, as part of the Safe Drinking Water Act (SDWA) of 1974, Public Law 93-523, 42 U.S.C. 300j-5, and is operated in accordance with the provisions of the Federal Advisory Committee Act (FACA), 5 U.S.C. App. 2. The NDWAC was established under the SDWA to provide practical and independent advice, consultation, and recommendations to the EPA Administrator on the activities, functions, policies, and regulations required by the SDWA.

Dated: November 5, 2019.
Jennifer L. McLain,
Director, Office of Ground Water and Drinking Water.

[FR Doc. 2019-24680 Filed 11-12-19; 8:45 am]

BILLING CODE 6560-50-P